DEPARTMENT OF DEFENSE

Defense Acquisition Regulations System

[DFARS-RRTF-2017-01; Docket DARS-2017-0001]

Defense Federal Acquisition Regulation Supplement; DFARS Subgroup to the DoD Regulatory Reform Task Force, Review of DFARS Solicitation Provisions and Contract Clauses

AGENCY: Defense Acquisition Regulations System, Department of Defense.

ACTION: Request for comment.

SUMMARY: In accordance with Executive Order 13777, “Enforcing the Regulatory Reform Agenda,” the DFARS Subgroup to the DoD Regulatory Reform Task Force is seeking input on DFARS solicitation provisions and contract clauses that may be appropriate for repeal, replacement, or modification. See the Supplementary Information section below for additional guidance.

DATES: Interested parties should submit written comments to the address shown below on or before August 21, 2017, to be considered.

ADDRESSES: Submit comments identified by “DFARS-RRTF-2017-01” using any of the following methods:

○ Regulations.gov: http://www.regulations.gov. Submit comments via the Federal eRulemaking portal by entering “DFARS-RRTF-2017-01” under the heading “Enter keyword or ID” and selecting “Search.” Select the link “Submit a Comment” that corresponds with “DFARS-RRTF-2017-01.” Follow the instructions provided at the “Submit a Comment” screen. Please include your name, company name (if any), and “DFARS-RRTF-2017-01” on your attached document.

○ Fax: 571-372-6099.

○ Mail: Defense Acquisition Regulations System, Attn: DFARS Subgroup RRTF, OUSD(AT&L)DPAP/DARS, Room 3B941, 3060 Defense Pentagon, Washington, DC 20301-3060.

Comments received generally will be posted without change to http://www.regulations.gov, including any personal information provided. To confirm receipt of your comment(s), please check www.regulations.gov, approximately two to three days after submission to verify posting (allow 30 days for posting of comments submitted by mail).

FOR FURTHER INFORMATION CONTACT: Ms. Jennifer Johnson, telephone 571-372-6100; or Ms. Carrie Moore, telephone 571-372-6093.

SUPPLEMENTARY INFORMATION: On February 24, 2017, the President signed Executive Order (E.O.) 13777, “Enforcing the Regulatory Reform Agenda,” which established a Federal policy “to alleviate unnecessary regulatory burdens” on the American people. Section 3(a) of the E.O. directs Federal agencies to establish a Regulatory Reform Task Force (Task Force). One of the duties of the Task Force is to evaluate existing regulations and “make recommendations to the agency head regarding their repeal, replacement, or modification.” The E.O. further asks that each Task Force “attempt to identify regulations that:

(i) Eliminate jobs, or inhibit job creation; (ii) are outdated, unnecessary, or ineffective; (iii) impose costs that exceed benefits; (iv) create a serious inconsistency or otherwise interfere with regulatory reform initiatives and policies; (v) are inconsistent with the requirements of section 515 of the Treasury and General Government Appropriation Act, 2001 (44 U.S.C. 3516 note), or the guidance issued pursuant to that provision in particular those regulations that rely in whole or in part on data, information, or methods that are not publicly available or that are insufficiently transparent to meet the standard of reproducibility; or (vi) derive from or implement Executive Orders or other Presidential directives that have been subsequently rescinded or substantially modified.” Section 3(e) of the E.O. 13777 calls on the Task Force to “seek input and other assistance, as permitted by law, from entities significantly affected by Federal regulations, including State, local, and tribal governments, small businesses, consumers, non-governmental organizations, trade associations” on regulations that meet some or all of the criteria above. Through this notice, DoD is soliciting such input from the public to inform evaluation of the DFARS part 252 solicitation provisions and contract clauses by the Task Force's DFARS Subgroup. Although the agency will not respond to each individual comment, DoD may follow-up with respondents to clarify comments. DoD values public feedback and will consider all input that it receives. Furthermore, DoD may share inputs received in response to this notice with the “Section 809 Panel” (section809panel.org; SEC809@DAU.MIL) established under section 809 of the National Defense Act for Fiscal Year 2016, for the purpose of reviewing the acquisition regulations applicable to DoD with a view toward streamlining and improving the efficiency and effectiveness of the defense acquisition process and maintaining defense technology advantage.

Jennifer L. Hawes,
Editor, Defense Acquisition Regulations System.

[FR Doc. 2017-12731 Filed 6-19-17; 8:45 am]

BILLING CODE 5001-06-P